GENERAL SERVICES ADMINISTRATION

41 CFR Part 301-10

[FTR Amendment 2010-01; FTR Case 2010-301; Docket Number 2009-0020, Sequence 1]

RIN 3090-AJ01

Federal Travel Regulation; Privately Owned Vehicle Mileage Reimbursement

AGENCY: Office of Governmentwide Policy, General Services Administration (GSA).

ACTION: Final rule.

SUMMARY: GSA is amending the Federal Travel Regulation (FTR) to update the mileage reimbursement rates for using a privately owned automobile (POA), motorcycle or airplane for official travel. The new rates reflect the current vehicle operating costs as determined by investigations conducted by GSA. This governing regulation sets the mileage reimbursement allowance for official travel for a POA at $0.50, motorcycles at $0.47, and airplanes at $1.29.

DATES: Effective Date: This final rule is effective January 6, 2010.

Applicability Date: This final rule is applicable for official travel performed on and after January 1, 2010.

FOR FURTHER INFORMATION CONTACT: The Regulatory Secretariat (MVPR), Room 4041, GS Building, Washington, DC 20405, (202) 501-4755, for information pertaining to status or publication schedules. For clarification of content, contact Mr. Cy Greenidge, Program Analyst, Office of Governmentwide Policy, at (202) 219-2349. Please cite FTR Amendment 2010-01; FTR case 2010-301.

SUPPLEMENTARY INFORMATION:

A. Background

Pursuant to 5 U.S.C. 5707(b), the Administrator of General Services has the responsibility to establish the privately owned vehicle (POV) mileage reimbursement rates that Federal employees are entitled to when they use a POA, motorcycle or airplane for official business. To set the rates, GSA is required to periodically investigate the cost to Government employees of operating a POV while on official travel, and consult with the Secretaries of Defense and Transportation, and representatives of Government employee organizations. GSA investigated the mileage rate costs for motorcycles and airplanes. The Internal Revenue Service (IRS) conducted an investigative report on the mileage rates for a POA to compute the deductible cost of operating passenger vehicles for business purposes. GSA analyzed the data in the IRS report and adopted the findings. After consultation with the above-referenced Federal agencies and Government employee organizations, the Acting Administrator of General Services has determined the per mile operating costs for official use of a POA (including trucks) is $0.50, $0.47 for motorcycles, and $1.29 for airplanes. As provided in 5 U.S.C. 5704(a)(1), the POA mileage reimbursement rate cannot exceed the single standard mileage rate established by the IRS. The IRS announced a new single standard mileage rate for automobiles of $0.50 per mile effective January 1, 2010. The results of the investigative reports have been reported to Congress.

B. Executive Order 12866

This is not a significant regulatory action and, therefore, was not subject to review under Section 6(b) of Executive Order 12866, Regulatory Planning and Review, dated September 30, 1993. This final rule is not a major rule under 5 U.S.C. 804.

C. Regulatory Flexibility Act

This final rule is not required to be published in the Federal Register for notice and comment, and therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget (OMB) under 44 U.S.C. 3501, et seq.

E. Small Business Regulatory Enforcement Fairness Act

This final rule is also exempt from congressional review prescribed under 5 U.S.C. 801 since it relates solely to agency management and personnel.

List of Subjects in 41 CFR Part 301-10

Government employees, Travel and transportation expenses.

Dated: December 28, 2009.
Stephen R. Leeds,
Acting Administrator of General Services.

For the reasons set forth in the preamble, under 5 U.S.C. 5701-5709, GSA amends 41 CFR Part 301-10 as set forth below:

PART 301-10—TRANSPORTATION EXPENSES

1. The authority citation for 41 CFR part 301-10 continues to read as follows:

Authority: 5 U.S.C. 5707, 40 U.S.C. 121 (c); 49 U.S.C. 40118, Office of Management and Budget Circular No. A-126, “Improving the Management and Use of Government Aircraft.” Revised April 28, 2006.

2. Amend the table in § 301-10.303 by revising the second, third, and fourth entries to read as follows:

§ 301-10.303 What am I reimbursed when use of a POV is determined by my agency to be advantageous to the Government?

For use of a | Your reimbursement is
| * * * * *
Privately owned airplane | ¹ $1.29
Privately owned automobile | ¹ $0.50
Privately owned motorcycle | ¹ $0.47
¹ Per mile.

Note: The following attachment will not appear in the Code of Federal Regulations.

Attachment to Preamble

General Services Administration

Reporting to Congress—The Costs of Operating Privately Owned Vehicles

Paragraph (b) of Section 5707 of Title 5, United States Code, requires the Administrator of General Services to periodically investigate the cost to Government employees of operating privately owned vehicles (airplanes, automobiles, and motorcycles) while on official travel, to report the results of the investigations to Congress, and to publish the report in the Federal Register. This report on the privately owned vehicle reimbursement rates is being published in the Federal Register.

Dated: December 28, 2009.

Stephen R. Leeds,

Acting Administrator of General Services.

Reporting to Congress—The Costs of Operating Privately Owned Vehicles

5 U.S.C. 5707(b)(1)(A) requires that the Administrator of General Services, in consultation with the Secretary of Defense, the Secretary of Transportation, and representatives of Government employee organizations, conduct periodic investigations of the cost of travel and operation of privately owned vehicles (airplanes, automobiles, and motorcycles) to Government employees while on official travel, and report the results to the Congress at least once a year. 5 U.S.C. 5707(a)(1) requires that the Administrator of General Services issue regulations prescribing mileage reimbursement rates. Pursuant to 5 U.S.C. 5707(b), the Administrator shall also determine the average, actual cost per mile for the use of each type of privately owned vehicle based on the results of these cost investigations. Such figures must be reported to the Congress within 5 working days after the cost determination has been made in accordance with 5 U.S.C. 5707(b)(2)(C).

GSA investigated the mileage rate costs for motorcycles and airplanes. The Internal Revenue Service (IRS) conducted an investigative report on the mileage rates for a POA to compute the deductible cost of operating passenger vehicles for business purposes. GSA analyzed the data in the IRS report and adopted the findings. As provided in 5 U.S.C. 5704(a)(1), the POA mileage reimbursement rate cannot exceed the single standard mileage rate established by the IRS. The IRS announced a new single standard mileage rate for automobiles of $0.50 per mile effective January 1, 2010. Based on the investigative reports, and in consultation with the above-specified parties, I have determined the per mile operating costs for official use of a POA (including trucks) is $0.50, $0.47 for motorcycles, and $1.29 for airplanes. This report to Congress on the cost of operating POVs will be published in the Federal Register.

[FR Doc. E9-31358 Filed 1-5-10; 8:45 am]

BILLING CODE 6820-14-P